DEPARTMENT OF THE INTERIOR

National Park Service

[NPS-WASO-NAGPRA-18954;PPWOCRADN0-PCU00RP14.R50000]

Notice of Intent To Repatriate Cultural Items: New York State Museum, Albany, NY

AGENCY: National Park Service, Interior.

ACTION: Notice.

SUMMARY: The New York State Museum, in consultation with the appropriate Indian tribes or Native Hawaiian organizations, has determined that the cultural items listed in this notice meet the definition of sacred objects and objects of cultural patrimony. Lineal descendants or representatives of any Indian tribe or Native Hawaiian organization not identified in this notice that wish to claim these cultural items should submit a written request to the New York State Museum. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the New York State Museum at the address in this notice by September 30, 2015.

ADDRESSES: Lisa Anderson, New York State Museum, 3049 Cultural Education Center, Albany, NY 12230, telephone (518) 486-2020, email landers6@mail.nysed.gov.

SUPPLEMENTARY INFORMATION: Notice is here given in accordance with the Native American Graves Protection and Repatriation Act (NAGPRA), 25 U.S.C. 3005, of the intent to repatriate cultural items under the control of the New York State Museum, Albany, NY, that meet the definition of sacred objects and objects of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item(s)

In 1898, Harriet Maxwell Converse of New York City, NY, donated 34 cultural items to the New York State Museum. The cultural items are 31 wooden medicine masks (E-36868, E-35, E-36919, E-37013, E-37014, E-37020, E-37021, E-37026, E-37028, E-37032, E-37035, E-37036, E-37040, E-37041, E-37044, E-37046, E-37058, E-37060, E-37060A, E-37597, E-37606, E-37607, E-37610, E-37611, E-37612, E-37617, E-37619, E-37620, E-37622, E-37625, E-42) and 3 cornhusk medicine masks (E-36747, E-36926, E-36927).

In the late 19th century, Adelbert G. Richmond of Canajoharie, NY, acquired two cultural items. The cultural items are two wooden medicine masks (E-37025, E-37055).

In 1956, three cultural items were purchased from the Logan Museum of Anthropology, Beloit College, WI. The cultural items were part of a larger collection made by Albert Green Heath. The three cultural items are one large wooden medicine mask (E-50317) and two miniature wooden medicine masks (E-50313, E-50314).

In 1961, one cultural item was acquired from Judith Drumm, a former museum educator. The cultural item is a cornhusk medicine mask (E-50465).

In the late 19th and early 20th centuries, 25 cultural items identified as Iroquois were acquired from unknown individuals. The 25 cultural items are 17 wooden medicine masks (E-36910, E-36913, E-37019, E-37034, E-37049, E-37051, E-37052, E-37599, E-37600, E-37602, E-37609, E-37615, E-37624, E-37627, E-39325, E-5, E-no#79), five cornhusk medicine masks (E-13A, E-13B, E-36748, E-36923, E-36926), and three miniature cornhusk masks (E-36632, E-51025A, E-51025B).

Museum records identify the affiliation of the 65 objects described in this notice as “Iroquois.” According to oral evidence presented during consultation with the Haudenosaunee Standing Committee on Burial Rules and Regulations, the Onondaga Nation is the keeper of the central fire of the Haudenosaunee Confederacy. As the keeper of the central fire, the Onondaga Nation has the responsibility to care for and return to the appropriate Nation Haudenosaunee cultural objects that are not specifically affiliated with any one Haudenosaunee Nation. Therefore, it is the understanding of all the Haudenosaunee Confederacy Nations that any medicine masks affiliated generally as “Iroquois” are affiliated with the Onondaga Nation.

Determinations Made by the New York State Museum

Officials of the New York State Museum have determined that:

• Pursuant to 25 U.S.C. 3001(3)(C), the 65 cultural items described above are specific ceremonial objects needed by traditional Native American religious leaders for the practice of traditional Native American religions by their present-day adherents, and have an ongoing historical, traditional, or cultural importance central to the Native American group or culture itself, rather than property owned by an individual.

• Pursuant to 25 U.S.C. 3001(2), there is a relationship of shared group identity that can be reasonably traced between the sacred objects and objects of cultural patrimony and the Onondaga Nation on behalf of Haudenosaunee Confederacy Nations.

Additional Requestors and Disposition

Lineal descendants or representatives of any Indian tribe or Native Hawaiian organization not identified in this notice that wish to claim these cultural items should submit a written request with information in support of the claim to Lisa Anderson, New York State Museum, 3049 Cultural Education Center, Albany, NY 12230, telephone (518) 486-2020, email landers6@mail.nysed.gov, by September 30, 2015. After that date, if no additional claimants have come forward, transfer of control of the sacred objects and objects of cultural patrimony to the Onondaga Nation may proceed.

The New York State Museum is responsible for notifying the Cayuga Nation; Oneida Nation of New York; Oneida Tribe of Indians of Wisconsin; Onondaga Nation; Saint Regis Mohawk Tribe (previously listed as the St. Regis Band of Mohawk Indians of New York); Seneca Nation of Indians (previously listed as the Seneca Nation of New York); Seneca-Cayuga Tribe of Oklahoma; Tonawanda Band of Seneca (previously listed as the Tonawanda Band of Seneca Indians of New York); and Tuscarora Nation that this notice has been published.

Dated: July 31, 2015.
Melanie O'Brien,
Manager, National NAGPRA Program.

[FR Doc. 2015-21499 Filed 8-28-15; 8:45 am]

BILLING CODE 4312-50-P